DEPARTMENT OF ENERGY

Federal Energy Regulatory Commission

[Project No. 15307-000]

Premium Energy Holdings, LLC; Notice of Preliminary Permit Application Accepted for Filing and Soliciting Comments, Motions To Intervene, and Competing Application

On March 17, 2023, Premium Energy Holdings, LLC, filed an application for a preliminary permit, pursuant to section 4(f) of the Federal Power Act (FPA), proposing to study the feasibility of the to be located 10 miles south of the of the unincorporated community of Olancha in Inyo County, California. The sole purpose of a preliminary permit, if issued, is to grant the permit holder priority to file a license application during the permit term. A preliminary permit does not authorize the permit holder to perform any land-disturbing activities or otherwise enter upon lands or waters owned by others without the owners' express permission.

The proposed project would be a closed-loop pumped storage hydropower facility. The applicant proposes three alternative upper reservoirs: McCloud Reservoir, Little Cactus Reservoir, or Haiwee Canyon Reservoir. The proposed North Haiwee 2 Reservoir would be the lower reservoir for each alternative.

Upper Reservoir Alternative 1: McCloud Reservoir

The McCloud Reservoir alternative consists of: (1) a 504-acre upper reservoir having a total storage capacity of 44,554 acre-feet at a normal maximum operating elevation of 5,260 feet mean sea level (msl); (2) a 175-foot-high, 3,068-foot-long roller compacted concrete upper reservoir dam; (3) a 2.41-mile-long, 39-foot-diameter concrete-lined headrace tunnel; (4) a 0.2-mile-long, 35-foot-diameter concrete-lined vertical shaft; (5) a 5.6-mile-long, 35-foot-diameter concrete-lined horizontal tunnel; (6) six 0.78-mile-long, 22-foot-diameter steel penstocks; (7) a 585-foot-long, 90-foot-wide, 165-foot-high concrete-lined powerhouse located in an underground cavern, housing five pump-turbine generator-motor units rated for 400 megawatts (MW) each; and (8) a 0.68-mile-long, 42-foot-diameter concrete-lined tailrace tunnel discharging into the proposed North Haiwee 2 Reservoir.

Upper Reservoir Alternative 2: Little Cactus Reservoir

The Little Cactus Reservoir alternative consists of: (1) a 499-acre upper reservoir having a total storage capacity of 47,021 acre-feet at a normal maximum operating elevation of 4,980 feet msl; (2) a 235-foot-high, 2,836-foot-long roller compacted concrete upper reservoir dam; (3) a 1.06-mile-long, 39-foot-diameter concrete-lined headrace tunnel; (4) a 0.16-mile-long, 35-foot-diameter concrete-lined vertical shaft; (5) a 4-mile-long, 35-foot-diameter concrete-lined horizontal tunnel; (6) six 0.7-mile-long, 22-foot-diameter steel penstocks; (7) a 585-foot-long, 90-foot-wide, 165-foot-high concrete-lined powerhouse located in an underground cavern, housing five pump-turbine generator-motor units rated for 400 MW each; and (8) a 0.78-mile-long, 42-foot-diameter concrete-lined tailrace tunnel discharging into the proposed North Haiwee 2 Reservoir.

Upper Reservoir Alternative 3: Haiwee Canyon Reservoir

The Haiwee Canyon Reservoir alternative consists of: (1) a 138-acre upper reservoir having a total storage capacity of 28,620 acre-feet at a normal maximum operating elevation of 6,160 feet msl; (2) a 595-foot-high, 2,256-foot-long roller compacted concrete upper reservoir dam; (3) a 1.64-mile-long, 31-foot-diameter concrete-lined headrace tunnel; (4) a 0.32-mile-long, 28-foot-diameter concrete-lined vertical shaft; (5) a 5.2-mile-long, 28-foot-diameter concrete-lined horizontal tunnel; (6) six 0.54-mile-long, 18-foot-diameter steel penstocks; (7) a 585-foot-long, 90-foot-wide, 165-foot-high concrete-lined powerhouse located in an underground cavern, housing five pump-turbine generator-motor units rated for 400 MW each; and (8) a 0.8-mile-long, 33-foot-diameter concrete-lined tailrace tunnel discharging into the proposed North Haiwee 2 Reservoir.

Lower Reservoir: North Haiwee 2 Reservoir

The proposed North Haiwee 2 Reservoir would consist of: (1) a 320-acre lower reservoir having a total storage capacity 38,350 acre-feet at a normal maximum operating elevation of 3,770 feet msl; and (2) a 160-foot-high, 7,090-foot-long roller compacted concrete lower reservoir dam.

Interconnection

For each upper reservoir alternative, project power would be transmitted to the grid via: (1) a new, 2.5-mile-long, 500 kilovolt (kV) underground transmission line extending from the powerhouse to the proposed North Haiwee switchyard (the point of interconnection); and (2) appurtenant facilities. The estimated annual generation of the Haiwee Project under each of the alternatives would be 6,900 gigawatt-hours.

Applicant Contact: Mr. Victor Rojas, Premium Energy Holdings, LLC, 355 South Lemon Ave., Suite A, Walnut, CA 91789; victor.rojas@pehllc.net; phone: (909) 595-5314.

FERC Contact: Everard Baker; email: everard.baker@ferc.gov; phone: (202) 502-8554.

The Commission's Office of Public Participation (OPP) supports meaningful public engagement and participation in Commission proceedings. OPP can help members of the public, including landowners, environmental justice communities, Tribal members, and others, access publicly available information and navigate Commission processes. For public inquiries and assistance with filings such as interventions, comments, or requests for rehearing, the public is encouraged to contact OPP at (202) 502-6595 or OPP@ferc.gov. Comments, motions to intervene, competing applications (without notices of intent), or notices of intent to file competing applications should be submitted within 60 days from the issuance of this notice. Competing applications and notices of intent must meet the requirements of 18 CFR 4.36.

The Commission strongly encourages electronic filing. Please file comments, motions to intervene, notices of intent, and competing applications using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Debbie-Anne Reese, Acting Secretary Federal Energy Regulatory Commission, 888 First Street NE, Washington, DC 20426. Submissions sent via any other carrier must be addressed to: Debbie-Anne Reese, Acting Secretary, Federal Energy Regulatory Commission, 12225 Wilkins Avenue, Rockville, Maryland 20852. The first page of any filing should include docket number P-15307-000.

More information about this project, including a copy of the application, can be viewed or printed on the “eLibrary” link of Commission's website at http://www.ferc.gov/docs-filing/elibrary.asp. Enter the docket number (P-15307) in the docket number field to access the document. For assistance, contact FERC Online Support.

Dated: January 23, 2024.
Debbie-Anne A. Reese,
Acting Secretary.

[FR Doc. 2024-01730 Filed 1-29-24; 8:45 am]

BILLING CODE 6717-01-P